DEPARTMENT OF AGRICULTURE

Forest Service

East Deer Lodge Valley Landscape Restoration Management Environmental Impact Statement, Deer Lodge County, MT

AGENCY: Forest Service, USDA.

ACTION: Notice of intent to prepare an environmental impact statement.

SUMMARY: The Department of Agriculture, Forest Service, will prepare an Environmental Impact Statement (EIS) on a integrated restoration proposal to restore terrestrial and aquatic conditions by improving the health, vigor and resilience of forest stands of infected, dead and high risk trees; restoration and maintenance of grass and shrub communities through prescribed burning; the restoration of aspen age classes and diversity; improving recreation opportunities and grazing; capturing the economic value of the dead and dying mountain pine beetle infested and high risk trees; understory thinning, followed with prescribed burning, on small understory conifer trees; enhancing water quality and quantity and maintaining and restoring conditions for native fish populations. The integrated restoration EIS will also improve public safety and infrastructure by reconstructing, relocating, maintaining and improving signing, design and linkage of forest trails, road densities and travel management. The EIS will address the obliteration of roads as well as provide mitigation measures to avoid introducing and spreading invasive vegetation. The proposed action will occur on a project area of approximately 39,000 acres of National Forest System land. The Forest Service will be using the Healthy Forest Restoration Act (HFRA). The East Deer Lodge Valley Landscape Restoration Project developed in response to the Healthy Forest Restoration Act (HFRA) of 2003 (PL 108-148). Title 1 of HFRA contains provisions to expedite hazardous fuel reduction and forest restoration projects on certain National Forest System lands at risk from wildland fire or are currently experiencing (or show imminent risk to) insect and disease epidemics (HFRA 2003, p. 15). Section 1 02(a)(4) of the HFRA authorizes expedited vegetation management projects where conditions such as the existence of an insect or disease epidemic “* * * (poses) a significant threat to an ecosystem component, or forest or rangeland resource on the Federal land or adjacent non-Federal land.” (Ibid. p. 20).

Title 1 of HFRA encourages federal agencies to involve state and local governments and citizens when developing plans and projects for vegetation treatment on federal and adjacent non-federal lands (Ibid., p. 7). A stewardship contract will be let upon reaching the project decision and implementation. The Record of Decision will disclose whether and where the Forest Supervisor decides to provide integrated restoration proposals for both the terrestrial and aquatic environments.

DATES: A public mailing outlining the project timeline and public involvement opportunities is planned the summer and fall of 2008. Individuals who want to receive this mailing should contact us within 30 days of the publication of this NOI. To be most useful, comments concerning the scope of this project should be received by July 30, 2008. The Draft Environmental Impact Statement is anticipated in the spring or summer of 2009 followed by a 45-day public comment period. The Final Environmental Impact Statement and Record of Decision should be completed by the spring of 2010.

ADDRESSES: Please send written comments to the Pintler Ranger District, Beaverhead-Deerlodge National Forest, Attn: Charlene Bucha Gentry, East Deer Lodge Valley Landscape Restoration Management EIS, 88 Business Loop, Philipsburg, MT 59858. The FAX number is (406) 859-3689. E-Mail comments can be submitted to the project leader, dfletcher@fs.fed.us.

FOR FURTHER INFORMATION CONTACT: Questions about the proposal and EIS should be directed to Charlene Bucha Gentry, District Ranger, Pintler Ranger District, Beaverhead-Deerlodge National Forest, 88 Business Loop, Philipsburg, MT 59858; telephone (406) 859-3211 or David Fletcher, Interdisciplinary Team Leader, Beaverhead-Deerlodge National Forest, Butte Ranger District/SO Annex, 1820 Meadowlark Lane, Butte, MT 59701 telephone (406) 494-0235. E-mail comments can be sent to dfletcher@fs.fed.us.

SUPPLEMENTARY INFORMATION: Background: The 39,000 acre East Deer Lodge Valley Landscape Restoration Management Project is located in southwest Montana and is bounded by the Clark Fork River along Interstate 90 on the west and the Continental Divide above the Deer Lodge Valley on the east located within the Pintler Ranger District of the Beaverhead-Deerlodge National Forest, Deer Lodge County. In 2006 a Memorandum of Understanding established the Forest Stewardship Partnership between a diverse group of individuals and the Forest Service to provide framework for cooperation and coordination between the Forest Service and the members of the Forest Stewardship Partnership to engage in joint project planning within the project area.

Purpose and Need: The purpose and need for the East Deer Lodge Valley Landscape Restoration Management Project is to: (1) Restore terrestial and aquatic conditions and processes in the project area, including goals, objectives, management prescriptions, and standards and guidelines set forth in the Forest Plan; (2) respond to needs and opportunities identified in the East Deer Lodge Valley Landscape Assessment of 2008; (3) capture the economic value of dead and dying mountain pine beetle infested and high risk trees; and (4) implement the Regional Integrated Restoration and Protection Strategy to help move the project area towards greater diversity, resiliency, and complexity; (5) incorporate Title 1 of HFRA which contains provisions to expediate hazardous fuel reduction and forest restoration projects on certain National Forest System lands that are at risk from wildland fire or are currently experiencing (or show imminent risk to) insect and desease epidemics (HFRA 2003, p. 15).

Proposed Action: The proposed action of the East Deer Lodge Valley Landscape Restoration Management Project is to: (1) Improve the health, vigor and resilience of up to approximately 2,200 acres of forest stands of infected, dead and high risk trees; (2) treat approximately 13,900 acres of mixed conifer trees by a) cutting followed by prescribed burning to restore and maintain grass and shrub communities and b) reducing hazardous fuels that are at risk from wildfire; (3) prescribe thinning on approximately 600 acres of smaller understory trees situated under mature mixed conifer forests followed with prescribed burning. The majority of these proposed treatments acres are situated adjacent to wild and urban interface developments, individual ranch houses and outbuildings as well as popular recreation travel routes; (4) use receipts from the sale of forest products to improve watersheds, fisheries, recreation opportunities and grazing; (5) capturing the economic value of the dead and dying mountain pine beetle infested and high risk trees; (6) enhance water quality and quantity within the project area and maintain and restore conditions for native fish populations. The integrated restoration EIS will also evaluate reconstruction, relocation, maintenance and improved signing, design and linkage of forest trails; road densities, travel management and reconditioning forest roads and providing mitigation measures to avoid introducing and spreading invasive vegetation found within the East Deer Lodge Valley Landscape Restoration Management Project Area, Pintler Ranger District.

Public Participation: Public participation has been an integral component of the study process and will continue to be especially important at several points during the analysis. The Forest Service will be seeking information, comments, and assistance from Tribal Governments, Federal, State, and local agencies, individuals and organizations that may be interested in, or affected by, the proposed activities. The scoping process includes: (1) Identification of potential issues; (2) identification of issues to be analyzed in depth; and, (3) elimination of insignificant issues or those which have been covered by a previous environmental review. Based on results of scoping and the resource capabilities within the project area, alternatives including a “no-action” alternative will be developed for the Draft Environmental Impact Statement.

The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553, (1978). Environmental objections that could have been raised at the Draft Environmental Impact Statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns of the proposed action, comments during scoping and comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agencys decision regarding the request for confidentiality, and where the request is denied; the agency will return the submission and notify the requester that the comments may be resubmitted with or without name and address within 7 days.

Responsible Official: Bruce Ramsey, Forest Supervisor, Beaverhead-Deerlodge National Forest, 420 Barrett Street, Dillon, MT 59725, is the responsible official. The responsible official will consider the comments, responses, disclosure of environmental consequences, and applicable laws, regulations, and policies in making the decision and state the rationale in the Record of Decision.

Authority: 40 CFR 1501.7 and 1508.22; Forest Service Handbook 1909.15, Section 21.

Dated: May 30, 2008.
Bruce Ramsey,
Forest Supervisor.

[FR Doc. E8-12823 Filed 6-9-08; 8:45 am]

BILLING CODE 3410-11-M